POSTAL REGULATORY COMMISSION

Sunshine Act Meetings

TIMES AND DATES: March 3, 2016, at 11 a.m.; June 2, 2016, at 11 a.m.; September 1, 2016, at 11: a.m.; December 1, 2016, at 11 a.m.

PLACE: Commission hearing room, 901 New York Avenue NW., Suite 200, Washington, DC 20268-0001.

STATUS: The Postal Regulatory Commission will hold public meetings to discuss the agenda items outlined below. Part of the meetings will be open to the public as well as audiocast, and the audiocast may be accessed via the Commission's Web site at http://www.prc.gov. Part of the meetings will be closed.

MATTERS TO BE CONSIDERED: The agenda for the Commission's March 3, 2016 meeting, June 2, 2016 meeting, September 1, 2016 meeting, and December 1, 2016 meeting include the items identified below.

PORTIONS OPEN TO THE PUBLIC: 1. Report from the Office of Public Affairs and Government Relations.

2. Report from the Office of General Counsel.

3. Report from the Office of Accountability and Compliance.

4. Commissioners Vote to designate new Vice-Chairman of the Commission pursuant to 39 U.S.C. 502(e). (December 1, 2016 Meeting only)

PORTIONS CLOSED TO THE PUBLIC: 5. Discussion of pending litigation.

CONTACT PERSON FOR MORE INFORMATION: David A. Trissell, General Counsel, Postal Regulatory Commission, 901 New York Avenue NW., Suite 200, Washington, DC 20268-0001, at 202-789-6820 (for agenda-related inquiries) and Stacy L. Ruble, Secretary of the Commission, at 202-789-6800 or stacy.ruble@prc.gov (for inquiries related to meeting location, changes in date or time of the meeting, access for handicapped or disabled persons, the audiocast, or similar matters). The Commission's Web site may also provide information on changes in the date or time of the meeting.

By direction of the Commission.
Stacy L. Ruble,
Secretary.

[FR Doc. 2016-00108 Filed 1-5-16; 11:15 am]

BILLING CODE 7710-FW-P